NUCLEAR REGULATORY COMMISSION

Advisory Committee on Nuclear Waste; Notice of Meeting

The Advisory Committee on Nuclear Waste (ACNW) will hold its 149th meeting on April 20-22, 2004, Room T-2B3, 11545 Rockville Pike, Rockville, Maryland. The entire meeting will be open to public attendance. The schedule for this meeting is as follows:

Tuesday, April 20, 2004

1 p.m.-1:10 p.m.: Opening Statement (Open)—The Chairman will open the meeting with brief opening remarks, outline the topics to be discussed, and indicate items of interest.

1:10 p.m.-2:40 p.m.: Update on West Valley and Performance Assessment (PA) Plan (Open)—The Committee will hear from representatives of the NRC staff on the West Valley Demonstration Project and its Performance Assessment plans.

2:55 p.m.-4:30 p.m.: Risk-Informed Regulation for NMSS Activities (Open)—The Committee will hear presentations by and hold discussions with representatives of the NRC NMSS Risk Task Group regarding the current status of incorporating risk-informed regulations in NMSS activities.

4:45 p.m.-6 p.m.: Preparation of ACNW Reports (Open)—The Committee will discuss proposed ACNW reports on matters considered during this meeting regarding reports on West Valley Performance Assessment Plans, Risk-Informed Regulation for NMSS Activities, Biosphere Working Group, Public Interactions during November 2003 Nevada Field Trip (tentative), and ACNW Annual Report on Waste-Management-Related Research.

Wednesday, April 21, 2004

8:30 a.m.-8:40 a.m.: Opening Statement (Open)—The Chairman will make opening remarks regarding the conduct of today's sessions.

8:40 a.m.-10 a.m.: EPA, 40 CFR Chapter 1, Advance Notice of Proposed Rulemaking (ANPR) “Approaches to an Integrated Framework for Management and Disposal of Low-Activity Radioactive Waste” (Open)—The Committee will hear an information briefing by a representative of the EPA on its proposed ANPR which discusses alternatives for the disposal of waste containing low concentrations of radioactive material.

10:15 a.m.-11:15 a.m.: Update on Risk Insights (Open)—The Committee will hear a briefing by and hold discussions with the NRC staff on the recently published HLW Risk Insights Report.

11:15 a.m.-12:15 p.m.: DOE Schedule for Responses to Key Technical Issue Agreements—The Committee will hear a briefing by and hold discussions with a DOE representative on their amended timetable for responding to the 293 KTI agreements.

2 p.m.-4 p.m.: DWM Evaluation of DOE Bundling Approach (Open)—The Committee will hear presentations by and hold discussions with representatives of the NRC staff on its evaluation of the DOE Bundling Approach. It is anticipated that the Biosphere bundle will be used as a representative sample.

4:15 p.m.-6 p.m.: Preparation of ACNW Reports (Open)—The Committee will discuss proposed ACNW reports on matters considered during this meeting.

Thursday, April 22, 2004

8:30 a.m.-8:35 a.m.: Opening Statement (Open)—The Chairman will make opening remarks regarding the conduct of today's sessions.

8:35 a.m.-12 Noon: Preparation of ACRS Report. (Open)—The Committee will continue its discussion of the proposed ACNW letter reports.

12 Noon-12:15 p.m.: Miscellaneous (Open)—The Committee will discuss matters related to the conduct of Committee activities and matters and specific issues that were not completed during previous meetings, as time and availability of information permit.

Procedures for the conduct of and participation in ACNW meetings were published in the Federal Register on October 16, 2003 (68 FR 59643). In accordance with these procedures, oral or written statements may be presented by members of the public. Electronic recordings will be permitted only during those portions of the meeting that are open to the public. Persons desiring to make oral statements should notify Mr. Howard J. Larson, Special Assistant (Telephone 301/415-6805), between 7:30 a.m. and 4 p.m. e.t., as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefore can be obtained by contacting Mr. Howard J. Larson.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACNW meetings. Those wishing to use this service for observing ACNW meetings should contact Mr. Theron Brown, ACNW Audiovisual Technician (301/415-8066), between 7:30 a.m. and 3:45 p.m. e.t., at least 10 days before the meeting to ensure the availability of this service. Individuals or organizations requesting this service will be responsible for telephone line charges and for providing the equipment and facilities that they use to establish the video teleconferencing link. The availability of video teleconferencing services is not guaranteed.

The ACNW meeting dates for Calendar Year 2004 are provided below.

ACNW meeting No. | Meeting dates
150 | May 25-27, 2004.
151 | June 22-24, 2004.
152 | July 20-22, 2004.
| August 2004—No Meeting.
153 | September 21-23, 2004 (Las Vegas, Nevada).
154 | October 19-21, 2004.
| November 2004—No Meeting.
155 | December 7-9, 2004.

Dated: March 26, 2004.
Andrew L. Bates,
Advisory Committee Management Officer.

[FR Doc. 04-7313 Filed 3-31-04; 8:45 am]

BILLING CODE 7590-01-P